DEPARTMENT OF DEFENSE

Office of the Secretary

[Transmittal Nos. 12-23]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-23 with attached transmittal, policy justification, and Sensitivity of Technology.

Dated: June 8, 2012.
Aaron Siegel,
Alternate OSD Federal Register Liaison Officer, Department of Defense.

BILLING CODE 5001-06-C

BILLING CODE 5001-06-P

Transmittal No. 12-23

Notice of Proposed Issuance of Letter of Offer Pursuant to Section 36(b)(1) of the Arms Export Control Act, as Amended

(i) Prospective Purchaser: Republic of Korea.

(ii) Total Estimated Value:

Major Defense Equipment* $250 million

Other $ 75 million

TOTAL $325 million

(iii) Description and Quantity or Quantities of Articles or Services under Consideration for Purchase: (367) CBU-105D/B Wind Corrected Munition Dispenser (WCMD) Sensor Fuzed Weapons (SFW), (28) Captive Air Training Missiles (CATM), (7) Dummy Air Training Missiles (DATM), and (18) spare tails kits for maintenance float, support equipment, containers, spare and repair parts, tools and test equipment, technical data and publications, personnel training and training equipment, U.S. government and contractor engineering, technical, and logistics support services, and other related elements of logistics and program support.

(iv) Military Department: USAF (QEJ)

(v) Prior Related Cases, if any: FMS case QBR—$4M—21Apr09

(vi) Sales Commission, Fee, etc., Paid, Offered, or Agreed to be Paid: None

(vii) Sensitivity of Technology Contained in the Defense Article or Defense Services Proposed to be Sold: See attached Annex

(viii) Date Report Delivered to Congress: 1 June 2012

* As defined in Section 47(6) of the Arms Export Control Act.

Policy Justification

Republic of Korea—CBU-105D/B Sensor Fuzed Weapons

The Government of Republic of Korea has requested a possible sale of (367) CBU-105D/B Wind Corrected Munition Dispenser (WCMD) Sensor Fuzed Weapons (SFW), (28) Captive Air Training Missiles (CATM), (7) Dummy Air Training Missiles (DATM), and (18) spare tails kits for maintenance float, communication equipment, electronic warfare systems, support equipment, spare engine containers, spare and repair parts, tools and test equipment, technical data and publications, personnel training and training equipment, U.S. government and contractor engineering, technical, and logistics support services, and other related elements of logistics and program support. The estimated cost is $325 million.

This proposed sale will contribute to the foreign policy goals and national security objectives of the United States by meeting the legitimate security and defense needs of an ally and partner nation. The Republic of Korea continues to be an important force for peace, political stability, and economic progress in North East Asia.

The Republic of Korea intends to use these CBU-105D/B Sensor Fuzed Weapons to modernize its armed forces and enhance its capability to defeat a wide range of enemy defenses including fortifications, armored vehicles, and maritime threats. Additionally, the munition's precision and low failure rate will reduce incidents of fratricide and increase overall effectiveness. The proposed sale will allow the Republic of Korea Air Force (ROKAF) to expand interoperability with U.S. and other regional coalition forces. The Republic of Korea will have no difficulty absorbing these munitions into its armed forces.

The proposed sale of this equipment and support will not alter the basic military balance in the region.

Employment of the CBU-105D/B Sensor Fuzed Weapon will not result in more than one percent unexploded ordnance across the range of intended operational environments. The agreement applicable to the transfer of the CBU-105D/B and the CBU-105D/B integration test assets will contain a statement by the Government of the Republic of Korea that the cluster munitions and cluster munitions technology will be used only against clearly defined military targets and will not be used where civilians are known to be present or in areas normally inhabited by civilians.

The prime contractor will be Textron Systems Corporation of Wilmington, MA. There are no known offset agreements proposed in connection with this potential sale.

Implementation of this proposed sale will require annual trips to the Republic of Korea involving up to two U.S. Government and three contractor representatives for technical reviews/support, and program management for a period of approximately two years. There will be no adverse impact on U.S. defense readiness as a result of this proposed sale.

Transmittal No. 12-AW

Notice of Proposed Issuance of Letter of Offer Pursuant to Section 36(b)(1) of the Arms Export Control Act (U)

Annex Item No. vii

(vii) Sensitivity of Technology:

1. The CBU-105D/BD/B Sensor Fuzed Weapon (SFW) is an advanced 1,000-pound class cluster bomb munition containing sensor fuzed sub-munitions that are designed to attack and defeat a wide range of moving or stationary land and maritime threats with minimal collateral damage. The SFW is currently the only combat proven, clean battle weapon that meets U.S. law regarding cluster munition safety standards. In addition to added safety, no other munition is as versatile and effective against so many different target types. Major components and technical data are classified up to Secret. Anti-tamper security measures are incorporated into the munition to prevent exploitation. The munition will be delivered in its Unclassified All-Up-Round configuration.

2. If a technologically advanced adversary were to obtain knowledge of the specific hardware and software elements, the information could be used to develop countermeasures which might reduce weapon system effectiveness or be used in the development of a system with similar or advanced capabilities.

[FR Doc. 2012-14370 Filed 6-12-12; 8:45 am]

BILLING CODE 5001-06-P